DEPARTMENT OF COMMERCE

International Trade Administration

California Department of Food and Agriculture, et al.; Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 05-001.

Applicant: California Department of Food and Agriculture, Sacramento, CA 95832.

Instrument: Electron Microscope, Model H-7500-1 TEM.

Manufacturer: Hitachi High-Technologies Corp., Japan.

Intended Use: See notice at 70 FR 6838, February 9, 2005. Order Date: March 29, 2004.

Docket Number: 05-003.

Applicant: Brigham Young University, Provo, UT 84602.

Instrument: Electron Microscope, Model Technai G ² F20 U-TWIN STEM.

Manufacturer: FEI Company, The Netherlands.

Intended Use: See notice at 70 FR 9046, February 24, 2005.

Order Date: March 28, 2003.

Docket Number: 05-004.

Applicant: University of Delaware, Newark, DE 19716.

Instrument: Electron Microscope, Model Technai G ² 12 Twin.

Manufacturer: FEI Company, Czech Republic.

Intended Use: See notice at 70 FR 9046, February 24, 2005.

Order Date: May 6, 2004.

Docket Number: 05-006.

Applicant: University of Pittsburgh, Pittsburgh, PA 15261.

Instrument: Electron Microscope, Model JEM-1011.

Manufacturer: JEOL Ltd., Japan.

Intended Use: See notice at 70 FR 10357, March 3, 2005.

Order Date: March 4, 1904.

Docket Number: 05-007.

Applicant: Clemson University, Clemson, SC 29634.

Instrument: Electron Microscope, Model H-7600.

Manufacturer: Hitachi High-Technologies Corp., Japan.

Intended Use: See notice at 70 FR 10357, March 3, 2005.

Order Date: May 4, 2004.

Docket Number: 05-008.

Applicant: Rice University, Houston, TX 77005.

Instrument: Electron Microscope, Model JEM-1230.

Manufacturer: JEOL Ltd., Japan.

Intended Use: See notice at 70 FR 10357, March 3, 2005.

Order Date: June 25, 2004.

Docket Number: 05-009.

Applicant: Rice University, Houston, TX 77005.

Instrument: Electron Microscope, Model JEM-2100F.

Manufacturer: JEOL Ltd., Japan.

Intended Use: See notice at 70 FR 10357, March 3,2005.

Order Date: June 25, 2004.

Docket Number: 05-010.

Applicant: Tuskegee University, Tuskegee, AL 36008.

Instrument: Electron Microscope, Model JEM-2010.

Manufacturer: JEOL Ltd., Japan.

Intended Use: See notice at 70 FR 10357, March 3, 2005.

Order Date: May 19, 2004.

Comments: None received.

Decision: Approved. No instrument of equivalent scientific value to the foreign instrument, for such purposes as these instruments are intended to be used, was being manufactured in the United States at the time the instruments were ordered.

Reasons: Each foreign instrument is a conventional transmission electron microscope (CTEM) and is intended for research or scientific educational uses requiring a CTEM. We know of no CTEM, or any other instrument suited to these purposes, which was being manufactured in the United States either at the time of order of each instrument OR at the time of receipt of application by U.S. Customs and Border Protection.

Gerald A. Zerdy,
Program Manager, Statutory Import Programs Staff.

[FR Doc. E5-1171 Filed 3-16-05; 8:45 am]

BILLING CODE 3510-P